NATIONAL AERONAUTICS AND SPACE ADMINISTRATION

[Notice 04-120]

NASA Space Science Advisory Committee, Structure and Evolution of the Universe Subcommittee; Meeting

AGENCY: National Aeronautics and Space Administration (NASA).

ACTION: Notice of meeting.

SUMMARY: The National Aeronautics and Space Administration announces a meeting of the NASA Space Science Advisory Committee (SScAC), Structure and Evolution of the Universe Subcommittee (SEUS).

DATES: Monday, November 8, 2004, 8:30 a.m. to 6 p.m., and Tuesday, November 9, 2004, 8 a.m. to 4 p.m.

ADDRESSES: Inn and Conference Center, University of Maryland, 3501 University Boulevard East, Adelphi, Maryland 20783.

FOR FURTHER INFORMATION CONTACT: Dr. Michael Salamon, Code SZ, National Aeronautics and Space Administration, Washington, DC 20546, 202/358-0441, michael.h.salamon@nasa.gov.

SUPPLEMENTARY INFORMATION: The meeting will be open to the public up to the seating capacity of the room. The agenda for the meeting is as follows:

—Universe Division News/Update

—NASA Roadmapping Progress

—James Webb Space Telescope Update

—Deep Space Network Future Plans

—Astronomy and Physics Working Group

—Interagency Planning for the World Year of Physics (2005)

It is imperative that the meeting be held on these dates to accommodate the scheduling priorities of the key participants. Visitors will be requested to sign a visitor's register.

P. Diane Rausch,
Advisory Committee Management Officer, National Aeronautics and Space Administration.

[FR Doc. 04-24586 Filed 11-3-04; 8:45 am]

BILLING CODE 7510-13-P